DEPARTMENT OF TRANSPORTATION

Office of the Secretary

Aviation Proceedings; Agreements Filed the Week Ending November 21, 2008

The following Agreements were filed with the Department of Transportation under the sections 412 and 414 of the Federal Aviation Act, as amended (49 U.S.C. 1382 and 1384) and procedures governing proceedings to enforce these provisions. Answers may be filed within 21 days after the filing of the application.

Docket Number: DOT-OST-2008-0359.

Date Filed: November 21, 2008.

Parties: Members of the International Air Transport Association.

Subject: PSC/RESO/142 dated October 21, 2008. Expedited Resolutions & Recommended Practices. Intended Effective Date: 1 December 2008, 1 January 2009.

Docket Number: DOT-OST-2008-0361.

Date Filed: November 21, 2008.

Parties: Members of the International Air Transport Association.

Subject: PSC/RESO/142 dated October 21, 2008, Expedited Resolutions & Recommended Practices. Intended Effective Date: 1 December 2008 and 1 January 2009.

Docket Number: DOT-OST-2008-0362.

Date Filed: November 21, 2008.

Parties: Members of the International Air Transport Association.

Subject: Technical Correction: TC3 Within South East Asia, From Malaysia to Guam, Expedited Resolution 002cg, (Memo 1250). Intended Effective Date: 15 January 2009.

Docket Number: DOT-OST-2008-0363.

Date Filed: November 21, 2008.

Parties: Members of the International Air Transport Association.

Subject: Technical Correction: TC3 Within South East Asia, Except from Malaysia to Guam, Expedited Resolution 002cd, (Memo 1251). Intended Effective Date: 15 January 2009.

Docket Number: DOT-OST-2008-0364.

Date Filed: November 21, 2008.

Parties: Members of the International Air Transport Association.

Subject: Technical Correction: TC3 Japan, Korea-South East Asia, Except between Korea (Rep. of) and Guam, Northern Mariana Islands, Expedited Resolution 002cc, (Memo 1252). Intended Effective Date: 15 January 2009.

Docket Number: DOT-OST-2008-0365.

Date Filed: November 21, 2008.

Parties: Members of the International Air Transport Association.

Subject: Technical Correction: TC3 South East Asia-South Asian Subcontinent, Expedited Resolution 002cf, (Memo 1253). Intended Effective Date: 15 January 2009.

Barbara J. Hairston,
Supervisory Dockets Officer, Alternate Federal Register Liaison.

[FR Doc. E8-31403 Filed 1-2-09; 8:45 am]

BILLING CODE 4910-9X-P